DEPARTMENT OF JUSTICE

[OMB Number 1121-0NEW]

Agency Information Collection Activities; Proposed eCollection eComments Requested; 2023 Law Enforcement Administrative and Management Statistics (LEMAS) Supplement Survey—Post-Academy Training and Officer Wellness (PATOW)

AGENCY: Bureau of Justice Statistics, Department of Justice.

ACTION: 30-Day notice.

SUMMARY: The Bureau of Justice Statistics, Office of Justice Programs, Department of Justice (DOJ), will be submitting the following information collection request to the Office of Management and Budget (OMB) for review and approval in accordance with the Paperwork Reduction Act of 1995. The proposed information collection was previously published in the Federal Register on May 16, 2023, allowing a 60-day comment period.

DATES: Comments are encouraged and will be accepted for 30 days until September 11, 2023.

FOR FURTHER INFORMATION CONTACT: If you have comments especially on the estimated public burden or associated response time, suggestions, or need a copy of the proposed information collection instrument with instructions or additional information, please contact: Sean E. Goodison (email: Sean.Goodison@usdoj.gov; telephone: 202-307-0765), Bureau of Justice Statistics, 810 Seventh Street NW, Washington, DC 20531.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: New collection.

2. Title of the Form/Collection: 2023 Law Enforcement Administrative and Management Statistics (LEMAS) supplement survey—Post-Academy Training and Officer Wellness (PATOW).

3. Agency form number, if any, and the applicable component of the Department of Justice sponsoring the collection: No agency form number at this time. The applicable component within the Department of Justice is the Bureau of Justice Statistics (BJS), in the Office of Justice Programs.

4. Affected public who will be asked or required to respond, as well as a brief abstract: Affected Public: State, local and tribal governments (Respondents will be general purpose state, county, and local law enforcement agencies (LEAs), including local and county police departments, sheriff's offices, and primary state law enforcement agencies. BJS plans to publish this information in reports and reference it when responding to queries from the U.S. Congress, Executive Office of the President, the U.S. Supreme Court, state officials, international organizations, researchers, students, the media, and others interested in criminal justice statistics.)

Abstract: The LEMAS core survey, conducted every 3 to 4 years since 1987, is based on a nationally representative sample of approximately 3,500 general-purpose LEAs and provides national estimates of law enforcement salaries, expenditures, operations, equipment, information systems and policies and procedures. In addition to these regular surveys, BJS also fields LEMAS supplement surveys to capture detailed information on specific topics pertaining to specific issues in law enforcement. BJS implemented this model of regular LEMAS core surveys and thematic supplement surveys following recommendations from the National Research Council. The first LEMAS supplement survey was fielded in 2017 (OMB Control Number 1121-0354, expired 2/28/2019), with a focus on body-worn camera use among law enforcement agencies.

The 2023 LEMAS supplement focuses on two topics, post-academy law enforcement training and officer wellness programs associated with agency responses to suicide. Post-academy training is defined as law enforcement training provided to full-time sworn personnel with general arrest powers at any point in their law enforcement career following any recruit or field training. Applicable topics include the number and types of training instructors used; training budgets; the resources that are accessible to officers through the agency's training program; the number of instruction hours provided for each training topic; and the types of special training programs offered to active full-time sworn personnel. The 2023 LEMAS supplement will also address law enforcement agency wellness programs associated with responses to suicide. The Federal Bureau of Investigation (FBI) launched the Law Enforcement Suicide Data Collection (LESDC) in January 2022 (OMB Control Number 1110-0082). The 2023 LEMAS supplement survey is intended to be a supporting effort to LESDC by collecting agency-level information on formal wellness programs currently available to full-time sworn personnel and related policies and training.

5. Obligation to Respond: Voluntary.

6. Total Estimated Number of Respondents: 3,500.

7. Estimated Time per Respondent: 1.75 hours.

8. Frequency: Annually.

9. Total Estimated Annual Time Burden: 6,125 hours.

10. Total Estimated Annual Other Costs Burden: $210,210.

If additional information is required, contact: Darwin Arceo, Department Clearance Officer, Policy and Planning Staff, Justice Management Division, United States Department of Justice, Two Constitution Square, 145 N Street NE, 4W-218 Washington, DC 20530.

Dated: August 8, 2023.
Darwin Arceo,
Department Clearance Officer for PRA, U.S. Department of Justice.

[FR Doc. 2023-17238 Filed 8-10-23; 8:45 am]

BILLING CODE 4410-18-P